DEPARTMENT OF TRANSPORTATION

Federal Motor Carrier Safety Administration

[Docket No. FMCSA-2010-0273]

Notice of Request for Information (RFI): Training Certification for Drivers of Longer Combination Vehicles

AGENCY: Federal Motor Carrier Safety Administration (FMCSA), DOT.

ACTION: Notice; request for comments.

SUMMARY: In accordance with the Paperwork Reduction Act of 1995, FMCSA announces its plan to submit the Information Collection Request (ICR) described below to the Office of Management and Budget (OMB) for review and approval and invites public comment. The FMCSA requests OMB approval to revise an ICR entitled, “Training Certification for Drivers of Longer Combination Vehicles.” This ICR is necessary because the training certificates drivers are required to present to prospective employers serve as proof the drivers have successfully completed the training to operate Longer Combination Vehicles (LCVs) safely on the Nation's highways. Motor carriers are required to maintain a copy of the training certification in each LCV driver's qualification file, which may be reviewed by Federal or State enforcement officials. This ICR is being revised due to an anticipated increase in the estimated number of LCV drivers submitting training certificates to employers resulting in change to the estimated information collection burden for this training task.

DATES: We must receive your comments on or before November 8, 2010.

ADDRESSES: You may submit comments identified by Federal Docket Management System Number FMCSA-2010-0273 by any of the following methods:

• Federal eRulemaking Portal: http://www.regulations.gov. Follow the online instructions for submitting comments.

• Fax: 1-202-493-2251.

• Mail: Docket Management Facility, U.S. Department of Transportation, 1200 New Jersey Avenue, SE., West Building, Ground Floor, Room W12-140, Washington, DC 20590-0001.

• Hand Delivery or Courier: West Building, Ground Floor, Room W12-140, 1200 New Jersey Avenue, SE., between 9 a.m. and 5 p.m. E.T., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to www.regulations.gov, and follow the online instructions for accessing the dockets, or go to the street address listed above.

Privacy Act: Anyone is able to search the electronic form of all comments received into any of our dockets by the name of the individual submitting the comment (or signing the comment, if submitted on behalf of an association, business, labor union, etc.). You may review DOT's Privacy Act Statement for the Federal Docket Management System published in the Federal Register on January 17, 2008 (73 FR 3316, or you may visit http://edocket.access.gpo.gov/2008/pdfE8-794.pdf.

Public participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Mr. Thomas Yager, Chief, Driver and Carrier Operations Division, Department of Transportation, Federal Motor Carrier Safety Administration, West Building 6th Floor, 1200 New Jersey Avenue, SE., Washington, DC 20590. Telephone: 202-366-4325; e-mail tom.yager@dot.gov.

SUPPLEMENTARY INFORMATION:

Background

Section 4007(b) of the Motor Carrier Act of 1991 (Title IV of the Intermodal Surface Transportation Efficiency Act of 1991 (ISTEA), Pub. L. 102-240, 105 Stat. 1914, 2152; 49 U.S.C. 31307) requires the Secretary of Transportation to establish Federal minimum training requirements for drivers of LCVs. The responsibility for implementing the statutory requirement was subsequently delegated to FMCSA (49 CFR 1.73). The FMCSA, in a final rule entitled, “Minimum Training Requirements for Longer Combination Vehicle (LCV) Operators and LCV Driver-Instructor Requirements” adopted implementing regulations for minimum training requirements for the operators of LCVs (March 30, 2004; 69 FR 16722).

The 2004 final rule created an information collection burden concerning the certification of new, current and non-grandfathered LCV drivers. An LCV is any combination of a truck-tractor and two or more semi-trailers or trailers, which operates on the National System of Interstate and Defense Highways (as defined in 23 CFR 470.107) and has a gross vehicle weight greater than 80,000 pounds. The purpose of this rule is to enhance the safety of LCV operations on our nation's highways.

By regulation, motor carriers cannot allow a driver to operate an LCV without ensuring that the driver has been properly trained in accordance with the requirements of 49 CFR 380.113. LCV drivers must present their LCV Driver-Training Certificate to prospective employers as proof of qualification to drive LCVs. Motor carriers must maintain a copy of the LCV Training Certificate in order to be able to show Federal, State or local officials that drivers operating LCVs are certified to do so.

Title: Training Certification for Drivers of Longer Combination Vehicles.

OMB Control Number: 2126-0026.

Type of Request: Revision of a currently-approved information collection.

Respondents: Drivers who complete LCV training each year, current LCV drivers who submit the LCV Driver-Training Certificate to a prospective employer, and motor carriers receiving and filing the certificates.

Estimated Number of Respondents: 31,500 drivers and motor carriers (750 new LCV drivers plus 15,000 current LCV drivers plus 15,750 motor carriers).

Estimated Number of Responses: 31,500 (750 new LCV drivers plus 15,000 current LCV drivers plus 15,750 motor carriers).

Estimated Time per Response: 10 minutes for preparation of LCV Driver-Training Certificate and an additional 10 minutes for the use of the LCV Driver-Training Certificate during the hiring process each year.

Expiration Date: February 28, 2011.

Frequency of Response: At various times during the year.

Estimated Total Annual Burden: 2,750 hours. The total number of drivers per year for whom this activity will occur consists of newly-trained LCV drivers (750) and current LCV drivers changing employers (15,000), a total of 15,750 drivers. The total annual information collection burden is estimated to be 2,750 hours: Preparation of LCV Driver-Training Certificate [750 newly trained LCV drivers × 10 minutes ÷ 60 minutes], and use of the certificate during the hiring process [15,750 total LCV drivers × 10 minutes ÷ 60 minutes]

Definitions: The LCV training regulations under 49 CFR part 380 are applicable only to drivers of “longer combination vehicles,” defined as “any combination of a truck-tractor and two or more trailers or semi-trailers, which operate[s] on the National System of Interstate and Defense Highways (defined in 23 CFR 470.107) with a gross vehicle weight greater than 80,000 pounds” (49 CFR 380.105).

Public Comments Invited: You are asked to comment on any aspect of this information collection, including: (1) Whether the proposed collection is necessary for FMCSA's performance; (2) the accuracy of the estimated burden; (3) ways for the FMCSA to enhance the quality, usefulness, and clarity of the collected information; and (4) ways that the burden could be minimized without reducing the quality of the collected information. The Agency will summarize or include your comments in the request for OMB's clearance of this information collection.

Issued on: September 2, 2010.
Kelly Leone,
Director, Office of Information Technology.

[FR Doc. 2010-22458 Filed 9-8-10; 8:45 am]

BILLING CODE 4910-EX-P